DEPARTMENT OF HOMELAND SECURITY

Coast Guard

[USCG-2003-16010]

International Convention for the Prevention of Pollution From Ships, Annex IV—International Sewage Pollution Prevention Equivalency Documentation

AGENCY: Coast Guard, DHS.

ACTION: Notice of policy.

SUMMARY: The Coast Guard announces that on September 27, 2003, the International Convention for the Prevention of Pollution from Ships, 1973 as modified by the Protocol of 1978 (MARPOL 73/78), (revised) Annex IV will enter into force internationally. The United States is not a Party to MARPOL 73/78, Annex IV, however, U.S. flagged vessels visiting nations that are parties may need to demonstrate compliance with these MARPOL regulations on the prevention of pollution by sewage from ships. The Coast Guard plans to assist qualified U.S. flag vessels in demonstrating compliance with these MARPOL requirements by issuing a document certifying equivalent compliance with the revised Annex IV of MARPOL 73/78. Failure of a United States flagged vessel to have the appropriate certificate or a document stating shipboard equivalency to MARPOL 73/78, Annex IV could result in a port state detention abroad.

DATES: The MARPOL 73/78, Annex IV international requirements come into force September 27, 2003, for new ships built on or after September 27, 2003. For existing vessels, these MARPOL international requirements come into force September 27, 2008.

ADDRESSES: For new vessels, requests for documentation certifying equivalent compliance with the revised Annex IV of MARPOL 73/78 should be sent to the local Officer-in-Charge, Marine Inspection. This notice and documents mentioned in this notice as being available in the docket, are part of docket USCG-2003-16010 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions regarding this notice, you may call, fax, or e-mail Lieutenant Commander Brian Downey, Office of Compliance, (G-MOC-1): telephone 202-267-2735, fax 202-267-4394, e-mail BDowney@comdt.uscg.mil.

SUPPLEMENTARY INFORMATION: Starting September 27, 2003, certain U.S. flagged vessels visiting nations that are a party to the International Convention for the Prevention of Pollution from Ships, 1973 as modified by the Protocol of 1978 (MARPOL 73/78), Annex IV (Sewage) (“MARPOL 73/78, Annex IV”) may need to demonstrate compliance with MARPOL 73/78, (revised) Annex IV—regulations on the prevention of pollution by sewage from ships.

The Marine Environment Protection Committee (MEPC) has agreed to revisions to Annex IV. MEPC of IMO has asked Annex IV Parties to implement the revised Annex IV immediately on the entry into force of the existing Annex to avoid the creation of a dual treaty regime between the existing and the revised Annex IV.

Applicability

The MARPOL 73/78, (revised) Annex IV applies to all new vessels built on or after September 27, 2003, that are 400 Gross Tons (GT), International Tonnage Convention (ITC), or more and new vessels less than 400 GT ITC that are certified to carry more than 15 passengers. The Annex does not require existing vessels within these tonnage and passenger categories to comply until September 27, 2008. A copy of the text of the MARPOL 73/78, (revised) Annex IV, and a related MEPC circular are available in the docket for this notice under ADDRESSES.

Equivalency Documentation

The U.S. Coast Guard plans to help the United States maritime industry demonstrate equivalent compliance with MARPOL 73/78, (revised) Annex IV to which the United States is not a Party. The United States considers a U.S. Coast Guard certified Marine Sanitation Device (MSD) to offer equivalent sewage pollution prevention to MSDs with an IMO Certificate of Type Test demonstrating compliance with the performance requirements of MARPOL 73/78, (revised) Annex IV. Therefore, any vessel with an installed and operational Coast Guard certified MSD which meets the criteria of 33 Code of Federal Regulations (CFR) part 159 should be eligible to receive documentation certifying equivalent compliance with the revised Annex IV of MARPOL 73/78.

Because the United States is not a party to MARPOL 73/78, Annex IV, the Coast Guard cannot issue official international convention certificates as a Flag State. To facilitate commerce and reduce confusion, however, the Coast Guard plans to issue a Flag State document to demonstrate equivalent compliance with MARPOL 73/78, (revised) Annex IV for eligible vessels.

Dated: August 28, 2003.
L. L. Hereth,
Acting Assistant Commandant for Marine Safety, Security and Environmental Protection.

[FR Doc. 03-22560 Filed 8-29-03; 3:07 pm]

BILLING CODE 4910-15-P